DEPARTMENT OF DEFENSE

Department of the Navy

Public Hearings for the Draft Environmental Impact Statement for Renewal of Authorization to Use Pinecastle Range, Ocala National Forest, FL

AGENCY: Department of the Navy, DOD.

ACTION: Announcement of public hearings.

SUMMARY: The Department of the Navy (Navy) in cooperation with the United States Forest Service (USFS) has prepared and filed with the United States Environmental Protection Agency (EPA) a Draft Environmental Impact Statement (DEIS) for the renewal of USFS authorization to allow the Navy continued use of the Pinecastle Bombing Range located in the Ocala National Forest, FL. The Navy and USFS will conduct three public hearings to receive oral and written comments on the DEIS. Federal, state, and local agencies and interested individuals are invited to be present or represented at the hearings.

DATES: Hearing dates are:

1. January 29, 2001, 5:00 to 9:00 p.m., Ocala, FL.

2. January 30, 2001, 5:00 to 9:00 p.m., Eustis, FL.

3. February 12, 2001, 5:00 to 9:00 p.m., Umatilla, FL.

ADDRESSES: The hearing locations are:

1. Ocala—Ocala Civic Auditorium, 836 Northeast Sanchez, Ocala, FL.

2. Eustis—Eustis National Guard Armory, 605 South Bay Street, Eustis, FL (located on State Road 19).

3. Umatilla Community Center, 1 South Central Avenue Umatilla, FL.

FOR FURTHER INFORMATION CONTACT: Mr. Darrell Molzan, Southern Division Naval Facilities Engineering Command, telephone (843) 820-5796, facsimile (843) 820-7472, or e-mail: molzandj@efdsouth.navfac.navy.mil.

SUPPLEMENTARY INFORMATION: Pursuant to Section 102(2)(c) of the National Environmental Policy Act of 1969, as implemented by the Council on Environmental Quality Regulations (40 CFR parts 1500-1508), the Navy in cooperation with the USFS has prepared and filed with the EPA a DEIS for the renewal of USFS authorization to allow the Navy continued use of the Pinecastle Bombing Range located in the Ocala National Forest, FL. A Notice of Intent for this DEIS was published in the Federal Register on April 1, 1997 (62 FR 15470). Two public scoping meetings were held in Umatilla, FL, on April 17, 1997, and in Ocala, FL, on April 29, 1997.

The DEIS is written to provide Navy and USFS decision-makers information of the potential impacts associated with the renewal of the Navy's authorization to continue using the range. The Navy is not proposing to select a new range or expand the current range under this action.

The Navy previously conducted a preliminary analysis of alternatives, including the plausibility of moving training operations to other military ranges in the southeast United States. These alternatives did not meet the Navy's operational criteria, thus were eliminated from detailed analysis in the DEIS. The preferred alternative presented in the DEIS would renew the Navy's authorization to use the range. There are no significant environmental impacts associated with either the preferred or no-action alternatives.

The DEIS has been distributed to various Federal, state, and local agencies, elected officials, and special interest groups, and is available for public review at the following public libraries:

—Umatilla Public Library, 412 Hatfield Drive, Umatilla, FL.

—Marion County Public Library, 15 Southeast Osceola Avenue, Ocala, FL.

The DEIS is also available to the public at two addresses on the worldwide web at www.nasjax.navy.mil or www.efdsouth.navfac.navy.mil. A limited number of printed copies are available to the public by contacting the project coordinator, Mr. Darrell Molzan by telephone (843) 820-5796, facsimile (843) 820-7472, or e-mail: molzandj@efdsouth.navfac.navy.mil.

The Navy will conduct three public hearings to receive oral and written comments concerning the DEIS. Each public hearing will be split into three segments. The first segment will be an Open-House from from 5 p.m. to 6:30 p.m., where attendees can circulate among poster stations that will highlight the main points of the DEIS, talk to Navy and USFS personnel about the document, and submit written comments. The second segment, from 6:30 p.m. to 8:00 p.m., will provide a public hearing format where individuals can provide comments orally. The third segment will be a continuation of the Open-House format from 8:00 p.m. to 9:00 p.m. Those who intend to speak will be asked to submit a speaker card available at the registration tables located at the entrance to each of the hearings. Oral comments will be transcribed by a stenographer. In the interest of available time, each speaker will be asked to limit oral comments to three minutes. Longer comments should be summarized at the public hearings and submitted in writing either at the hearings or mailed to Commander, Southern Division Naval Facilities Engineering Command (Attn: Mr. Darrell Molzan, Code 064DM), P.O. Box 190010, North Charleston, SC 29419-9010. Written comments are requested not later than February 20, 2001.

Dated: January 22, 2001.
J. L. Roth,
Lieutenant Commander, Judge Advocate General's Corps, U.S. Navy, Federal Register Liaison Officer.

[FR Doc. 01-2309 Filed 1-24-01; 8:45 am]

BILLING CODE 3810-FF-U